DEPARTMENT OF TRANSPORTATION

Federal Motor Carrier Safety Administration

Reappointment of Representatives to the Unified Carrier Registration Agreement Board of Directors

AGENCY: Federal Motor Carrier Safety Administration (FMCSA), DOT.

ACTION: Notice.

SUMMARY: FMCSA announces the reappointment of four Directors who serve on the Board of Directors that governs the Unified Carrier Registration (UCR) Agreement as the representatives from each of the four FMCSA service areas. The Safe, Accountable, Flexible, Efficient Transportation Equity Act: A Legacy for Users (SAFETEA-LU) created the UCR Agreement. Under the UCR Agreement, for-hire and private motor carriers, brokers, freight forwarders, and leasing companies provide registration and financial responsibility information and pay certain fees. The UCR Agreement replaced the Single State Registration System (SSRS), which was repealed January 1, 2007.

DATES: The Directors' appointments to the Board are effective beginning on June 1, 2008. Their terms will expire May 31, 2011.

FOR FURTHER INFORMATION CONTACT: Ms. Julie Otto, Federal Motor Carrier Safety Administration, Office of Safety Programs (MC-ES), (202) 366-0710, 1200 New Jersey Avenue, SE., Washington, DC 20590. Office hours are from 8 a.m. to 5 p.m., ET, Monday through Friday except Federal holidays.

SUPPLEMENTARY INFORMATION:

Background

Section 4305 of SAFETEA-LU (Pub. L. 109-59, 119 Stat. 1144, Aug. 10, 2005) created, under Title 49 of the U.S. Code, a new section 14504a titled “Unified Carrier Registration System Plan and Agreement.” Under the UCR Agreement, for-hire motor carriers, motor private carriers, brokers, freight forwarders, and leasing companies provide registration and financial responsibility information and pay certain fees. The Unified Carrier Registration Plan Board of Directors must issue rules and regulations to govern the UCR Agreement.

Title 49 U.S.C. 14504a(a)(9) defines the Unified Carrier Registration Plan as the organization of State, Federal, and industry representatives responsible for developing, implementing, and administering the UCR Agreement. Section 14504a(d)(1)(B) directed the Secretary to establish a Unified Carrier Registration Plan Board of Directors made up of 15 members representing FMCSA, State government, and the motor carrier industry.

Section 14504a(d) stipulates that the Unified Carrier Registration Plan Board of Directors must consist of representatives from the following groups:

• One Director from the U.S. Department of Transportation, either the FMCSA Deputy Administrator or such other Presidential appointee;

• Four Directors, one from each of FMCSA service areas (as defined by FMCSA in 71 FR 27778, Jan. 1, 2005), selected from among the chief administrative officers of the State agencies responsible for overseeing the administration of the UCR agreement;

• Five Directors representing the State agencies responsible for overseeing the administration of the UCR Agreement, selected from among their professional staffs and nominated by the National Conference of State Transportation Specialists (NCSTS), a non-profit organization founded in 1959 and consisting of State agencies involved in transportation safety, insurance, and consumer protection; and

• Five Directors representing the motor carrier industry.

Board of Directors

Today's publication serves as public notice of the reappointment of the board members from four FMCSA service areas to the Unified Carrier Registration Plan Board of Directors. The four members reappointed to the Board include the following:

Mr. Charles “Buddy” Covert, Director, Transportation Administration Division, Public Service Commission of West Virginia is being reappointed to represent the FMCSA Eastern service area. Mr. Covert's office assists the State with supporting and promoting a transportation safety environment that balances the interests of all parties and pursues excellence through quality. The current Transportation Administration Division consists of the Director's office and three operations sections that include Motor Carrier, Hazardous Material Registration, and the Coal Resource Transportation System.

Ms. Sandy Bowling, Supervisor of Insurance and Safety Section, Indiana Department of Revenue, Motor Carrier Services Division is being reappointed to represent the FMCSA Midwestern service area. Ms. Bowling has been with the Motor Carrier Services Division for 23 years. She is responsible for issuing U.S. Department of Transportation (USDOT) numbers, UCR registration, intrastate operating authority, intrastate household goods and passenger authority, and insurance filings. Ms. Bowling's division also created the UCR registration system on behalf of the UCR Board. Ms. Bowling is responsible for all maintenance and reporting for the UCR registration system.

Ms. Angel Oliver, Supervisor, Credentialing Unit, Motor Carrier Division, Texas Department of Transportation (TxDOT) is being reappointed to represent the FMCSA Southern service area. The Motor Carrier Division is responsible for administering UCR in Texas and providing credentials to intrastate and interstate for-hire motor carriers. Ms. Oliver has been with TxDOT for 20 years.

Mr. Frank LaQua, Motor Carrier Services Manager, North Dakota Department of Transportation is being reappointed to represent the Western service area. Mr. LaQua has been with the North Dakota Department of Transportation for 23 years, serving 15 of those years as Manager of Motor Carrier Services. Mr. LaQua is responsible for North Dakota's International Fuel Tax Agreement (IFTA), International Registration Plan (IRP), and UCR program areas and is North Dakota's IRP and IFTA Commissioner.

Board Member Term Limits

The four Directors who are reappointed in this notice as members of the Board will serve a term of 3 years, expiring on May 31, 2011.

Issued on: June 18, 2008.
William A. Quade,
Associate Administrator for Enforcement and Program Delivery.

[FR Doc. E8-14755 Filed 6-27-08; 8:45 am]

BILLING CODE 4910-EX-P